ENVIRONMENTAL PROTECTION AGENCY

[FRL-9460-2]

Notice of Decision Not To Reissue National Pollutant Discharge Elimination System (NPDES) General Permit for the Final Beneficial Reuse or Disposal of Municipal Sewage Sludge in Louisiana

AGENCY: Environmental Protection Agency (EPA).

ACTION: Notice of decision not to reissue NPDES general permit.

SUMMARY: EPA Region 6 is providing notice that the Agency does not intend to reissue the NPDES General Permit for the Final Beneficial Reuse or Disposal of Municipal Sewage Sludge in Louisiana (LAG650000) which was issued on August 21, 1998 and became effective on September 21, 1998 (63 FR 44962). The permit expired on September 22, 2003 and was never reissued.

FOR FURTHER INFORMATION CONTACT: Denise Hamilton, Oversight Section (6WQ-PO), Environmental Protection Agency, 1445 Ross Ave., Suite 1200, Dallas, TX 75202; telephone number: (214) 665-2775; fax number: (214) 665-2191; e-mail address: hamilton.denise@epa.gov.

SUPPLEMENTARY INFORMATION: With this notice, EPA provides official notification of its decision not to reissue the permit. EPA notes that the conditions of the permit were developed to be consistent with the self-implementing requirements of 40 CFR part 503, and facilities must comply with Part 503 regulations whether or not a permit has been issued. As established in 40 CFR 503.3(b), the requirements of 40 CFR part 503 are directly enforceable and no person shall use or dispose of sewage sludge through any practice for with requirements are established in this part except in accordance with such requirements.

Authority: Clean Water Act, 33 U.S.C. 1251 et seq.

Dated: August 30, 2011.
Troy C. Hill,
Acting Director, Water Quality Protection Division, EPA Region 6.

[FR Doc. 2011-22837 Filed 9-6-11; 8:45 am]

BILLING CODE 6560-50-P